DEPARTMENT OF LABOR

Employment and Training Administration

[TA-W-38,334]

General Magnetic, A Wholly Owned Subsidiary of International Jensen, Inc., Dallas, Texas; Amended Certification Regarding Eligibility To Apply for Worker Adjustment Assistance

In accordance with section 223 of the Trade Act of 1974 (19 USC 2273) the U.S. Department Labor issued a Certification of Eligibility to Apply for Worker Adjustment Assistance on February 20, 2001, applicable to workers of General Magnetic, Dallas, Texas. The notice was published in the Federal Register on April 5, 2001 (FR 66 18118).

At the request of the State agency, the Department reviewed the certification for workers of the subject firm. The workers were engaged in the production of ceramic ring magnets for loudspeakers. New information provided by the State shows that General Magnetic is a wholly owned subsidiary of International Jensen, Inc. located in Lake Forest, Illinois. New information also shows that workers separated from employment at the subject firm had their wages reported under a separate unemployment insurance (UI) tax account at International Jensen, Inc., Lake Forest, Illinois.

Accordingly, the Department is amending the certification to properly reflect this matter.

The intent of the Department's certification is to include all workers of General Magnetic who were adversely affected by increased imports of ceramic ring magnets.

The amended notice applicable to TA-W-38,334 is hereby issued as follows:

All workers of the General Magnetic, a wholly owned subsidiary of International Jensen, Inc., Dallas, Texas who became totally or partially separated from employment on or after November 6, 1999 through February 20, 2003 are eligible to apply for adjustment assistance under Section 223 of the Trade Act of 1974.

Signed at Washington DC this 23rd day of May, 2001.
Linda G. Poole,
Certifying Officer, Division of Trade Adjustment Assistance.

[FR Doc. 01-14417 Filed 6-7-01; 8:45 am]

BILLING CODE 4510-30-M